DEPARTMENT OF ENERGY

Federal Energy Regulatory Commission

[Docket Nos. EC06-88-000, et al.]

ArcLight Energy Partners Fund III, L.P., et al.; Electric Rate and Corporate Filings

March 8, 2006.

The following filings have been made with the Commission. The filings are listed in ascending order within each docket classification.

1. ArcLight Energy Partners Fund III, L.P.

[Docket No. EC06-88-000]

Take notice that on March 2, 2006 ArcLight Energy Partners Fund III, L.P. filed an Application, pursuant to section 203(a) of the Federal Power Act, for authorization to acquire indirectly 50% equity interest in Sabine Cogen, L.P from AL Cogen, Inc. and Al Cogen Partner, Inc.

Comment Date: 5 p.m. Eastern Time on March 23, 2006.

2. Entergy Nuclear Indian Point 2, LLC, Entergy Nuclear Indian Point 3, LLC, Entergy Nuclear Generation Company, Entergy Nuclear FitzPatrick, LLC, Entergy Nuclear Vermont Yankee, LLC, Entergy Nuclear Power Marketing, LLC

[Docket No. EC06-89-000]

Take notice that on March 3, 2006, Entergy Services, Inc. (Entergy Services), as agent for Entergy Nuclear Indian Point 2, LLC, Entergy Nuclear Indian Point 3, LLC, Entergy Nuclear Generation Company, Entergy Nuclear FitzPatrick LLC, Entergy Nuclear Vermont Yankee, LLC (ENIP2, ENIP3, ENG, ENF and VY are collectively Entergy Northeast Nuclear Generating Companies), and Entergy Nuclear Power Marketing, LLC (ENPM), submitted an application pursuant to section 203 of the Federal Power Act to the Federal Energy Regulatory Commission requesting authorization for the Entergy Northeast Nuclear Generating Companies to transfer several power sales agreements to ENPM.

Comment Date: 5 p.m. Eastern Time on March 24, 2006.

3. Allegheny Energy, Inc., Monongahela Power Company, The Potomac Edison Company, West Penn Power Company

[Docket No. EL06-54-000]

Take notice that on February 28, 2006, Allegheny Energy, Inc., Monongahela Power Company, The Potomac Edison Company, and West Penn Power Company (collectively, Allegheny Energy Companies) submitted a petition requesting that the Commission issue a declaratory order approving proposed incentive rate treatments for a new 500 k V transmission project that the Allegheny Energy Companies propose to construct across the “APS Zone” of PJM Interconnection, Inc.. The proposed construction will be undertaken by one or more of Monongahela Power Company, The Potomac Edison Company, or West Penn Power Company, a subsidiary of one or more of the Allegheny Power companies, or a subsidiary of Allegheny Energy, Inc. The Allegheny Energy Companies state the proposed project will run from the existing Wylie Ridge Substation on the western side of the AP Zone to a proposed Kemptown Substation, to be located on the eastern side of the AP Zone.

Comment Date: 5 p.m. Eastern Time on March 29, 2006.

4. ANP Blackstone Energy Company, LLC, ANP Marketing Company, ANP Funding I, LLC, Milford Power Limited Partnership, ANP Bellingham Energy Company, LLC

[Docket Nos. ER00-2118-004; ER00-1828-004; ER00-3751-004; ER93-493-016; ER00-2117-004]

Take notice that on March 6, 2006, ANP Blackstone Energy Company, LLC; ANP Marketing Company; ANP Funding I, LLC; Milford Power Limited Partnership; and ANP Bellingham Energy Company, LLC tendered for filing an amendment to its Rate Schedule FERC No. 1.

Comment Date: 5 p.m. Eastern Time on March 14, 2006.

5. BIV Generation Company, L.L.C.

[Docket No. ER06-474-001]

Take notice that on March 3, 2006, BIV Generation Company, L.L.C. filed with the Commission revised sheets to its market-based rate tariff pursuant to section 205 of the Federal Power Act.

Comment Date: 5 p.m. Eastern Time on March 14, 2006.

6. MGE Energy, Inc.

[Docket No. PH06-11-000]

Take notice that on March 2, 2006, MGE Energy, Inc. filed a Notice of Waiver of the Requirements of The Public Utility Holding Company Act of 2005 pursuant to 18 CFR 366.3 and 366.4 of the Commission's regulations on the basis that substantially all of the its public utility operations occur in the state of Wisconsin.

Comment Date: 5 p.m. Eastern Time on March 23, 2006.

7. DTE Energy Company

[Docket No. PH06-12-000]

Take notice that on March 2, 2006, DTE Energy, Inc., on behalf of its wholly-owned subsidiary, Michigan Consolidated Gas Company, filed a Notice of Exemption from the Requirements of The Public Utility Holding Company Act of 2005 pursuant to 18 CFR 366.4 of the Commission's regulations.

Comment Date: 5 p.m. Eastern Time on March 23, 2006.

8. MGE Energy, Inc.

[Docket No. PH06-13-000]

Take notice that on March 2, 2006, MGE Energy, Inc. filed a Notice of Exemption from the Requirements of The Public Utility Holding Company Act of 2005 pursuant to 18 CFR 366.4 of the Commission's regulations.

Comment Date: 5 p.m. Eastern Time on March 23, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3760 Filed 3-15-06; 8:45 am]

BILLING CODE 6717-01-P